NUCLEAR REGULATORY COMMISSION

Sunshine Federal Register Notice

Agency Holding the Meetings: Nuclear Regulatory Commission.

DATES: Week of September 8, 2008.

PLACE: Commissioners' Conference Room, 11555 Rockville Pike, Rockville, Maryland.

STATUS: Public and closed.

ADDITIONAL ITEMS TO BE CONSIDERED:

Week of September 8, 2008

Monday, September 8, 2008

9:30 a.m. Affirmation Session (Public Meeting) (Tentative).

a. U.S. Department of Energy (High Level Waste Repository) DOE's Partially Unopposed Motion for Protective Order Governing Classified Information (filed May 30, 2008). (Tentative).

b. U.S. Department of Energy (High Level Waste Repository: Pre-Application Matters), Docket No. PAPO-00—The DOE's Notice of Appeal from the PAPO Board's April 23, 2008 Order and Nye County's Motion to File an Amicus Curiae Brief—SRM—SECY-08-0082 (Tentative).

*The schedule for Commission meetings is subject to change on short notice. To verify the status of meetings, call (recording)—(301) 415-1292. Contact person for more information: Michelle Schroll, (301) 415-1662.

Additional Information

By a vote of 4-0 on September 2 and 3, 2008, the Commission determined pursuant to U.S.C. 552b(e) and § 9.107(a) of the Commission's rules that Affirmation of “a. U.S. Department of Energy (High Level Waste Repository) DOE's Partially Unopposed Motion for Protective Order Governing Classified Information (filed May 30, 2008), and b. U.S. Department of Energy (High Level Waste Repository: Pre-Application Matters), Docket No. PAPO-00—The DOE's Notice of Appeal from the PAPO Board's April 23, 2008 Order and Nye County's Motion to File an Amicus Curiae Brief—SRM—SECY-08-0082” be held September 8, 2008, and on less than one week's notice to the public.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: September 3, 2008.
R. Michelle Schroll,
Office of the Secretary.

[FR Doc. E8-20838 Filed 9-4-08; 11:15 am]

BILLING CODE 7590-01-P